DEPARTMENT OF COMMERCE

International Trade Administration

A-570-894

Certain Tissue Paper Products from the People’s Republic of China: Notice of Extension of Time Limit for Final Results of Second Antidumping Duty Administrative Review

AGENCY: Import Administration, International Trade Administration, Department of Commerce.

EFFECTIVE DATE: July 14, 2008.

FOR FURTHER INFORMATION CONTACT: Irene Gorelik, AD/CVD Operations, Office 9, Import Administration, International Trade Administration, U.S. Department of Commerce, 14th Street and Constitution Avenue, NW, Washington, DC 20230; telephone: (202) 482-6905.

SUPPLEMENTARY INFORMATION:

Background

On April 4, 2008, the Department of Commerce (“the Department”) published in the Federal Register the preliminary results of this antidumping duty administrative review. See Certain Tissue Paper Products from the People's Republic of China: Preliminary Results and Partial Rescission of Antidumping Duty Administrative Review, 73 FR 18497 (April 04, 2008).

Extension of Time Limits for Final Results

Pursuant to section 751(a)(3)(A) of the Tariff Act of 1930, as amended (“the Act”), and section 351.213(h)(1) of the Department’s regulations, the Department shall issue the final results of review within 120 days after the date on which the notice of the preliminary results was published in the Federal Register. The final results are currently due on August 2, 2008. However, if the Department determines that it is not practicable to complete the review within this time period, section 751(a)(3)(A) of the Act and section 351.213(h)(2) of the Department’s regulations allow the Department to extend this time period to 180 days.

In the instant review, the Department finds that the current deadline for the final results is impracticable. Specifically, the Department placed documentation from Customs and Border Protection (“Customs”) regarding entries in this case on the record on June 30, 2008, and allowed interested parties to comment on these Customs entry packages. The Department requires additional time to review and analyze interested party comments, case briefs and rebuttal briefs because the office tasked with administering this antidumping duty order is currently facing immediate statutory deadlines in several other administrative cases. As a result, the Department has determined to fully extend the current time limit for the completion of the final results of this administrative review until no later than October 1, 2008, in accordance with section 751(a)(3)(A) of the Act.

This notice is issued and published in accordance with sections 751(a)(3)(A) and 777(i)(1) of the Act.

Dated: July 08, 2008.
Stephen J. Claeys,
Deputy Assistant Secretary for Import Administration.

[FR Doc. E8-15948 Filed 7-11-08; 8:45 am]

BILLING CODE 3510-DS-S